DEPARTMENT OF HEALTH AND HUMAN SERVICES

Administration for Children and Families

[Office of Management and Budget #: 0970-0566]

Proposed Information Collection Activity; Healthy Marriage and Responsible Fatherhood Performance Measures and Additional Data Collection

AGENCY: Office of Planning, Research, and Evaluation, Administration for Children and Families, U.S. Department of Health and Human Services.

ACTION: Request for public comments.

SUMMARY: The Administration for Children and Families (ACF), Office of Family Assistance (OFA), has had administrative responsibility for federal funding of programs that strengthen families through healthy marriage and relationship education and responsible fatherhood programming since 2006 through the Healthy Marriage (HM) and Responsible Fatherhood (RF) grant programs. ACF required the 2015 and 2020 cohorts of HMRF grant recipients to collect and report performance measures about program operations, services, and participants (Office of Management and Budget (OMB) #: 0970-0460 and OMB #: 0970-0566). ACF will continue performance measure data collection and reporting for a new cohort of HMRF grant recipients that received 5-year awards in September 2025. ACF is requesting comment on a revision to its approved data collection and reporting (OMB #: 0970-0566) to support these activities with the 2025 HMRF grant cohort. This new cohort is expected to begin collecting performance measure data and reporting to ACF in April 2026.

ACF is requesting to extend approval, with the implementation of revisions described below, for 3 years.

DATES: Comments due March 30, 2026.

ADDRESSES: In compliance with the requirements of the Paperwork Reduction Act of 1995, ACF is soliciting public comment on the specific aspects of the information collection described above. You can obtain copies of the proposed collection of information and submit comments by emailing opreinfocollection@acf.hhs.gov. Identify all requests by the title of the information collection.

SUPPLEMENTARY INFORMATION:

Description: ACF proposes to continue collecting a set of OMB-approved performance measures from all HMRF award recipients to enable program performance monitoring and program improvement activities with the revisions described below.

The HMRF performance measures collect standardized information in the following areas:

• Program operations;

• Service delivery; and

• Participant characteristics and outcomes:

○ Application form.

○ Program entrance survey at enrollment, with four versions: (1) HM Adults; (2) HM Youth; (3) RF Community-Based Fathers; and (4) RF Reentering Fathers.

○ Program exit survey at program completion, with four versions: (1) HM Adults; (2) HM Youth; (3) RF Community-Based Fathers; and (4) RF Reentering Fathers.

The measures were developed in 2014 after extensive review of the research literature and grant recipients past measures. They were revised in 2020 based on a targeted analysis of existing measures, feedback from key audiences, and discussions with ACF staff and the 2015 cohort of grant recipients. OMB approved these revised measures in 2021; since then, OMB has approved non-substantive changes and a 3-year renewal through March 31, 2027. To prepare for the 2025 cohort, ACF conducted an updated analysis of the measures and obtained feedback from key audiences, including HMRF grant recipients, federal staff, and program clients.

Based on this feedback and to reduce respondent burden and focus performance measures on ACF's priorities for the 2025 cohort, ACF proposes to:

• Eliminate an applicant characteristics survey administered at program enrollment;

• Modify measures on surveys administered to participants at the start and end of programming;

• The program entrance and program exit surveys will be translated into Spanish. ACF acknowledges that English is the official language and authoritative version of all federal information and will note this on the translated instruments.

• Eliminate the requirement for grant recipients to complete a program operations survey and performance report after the first, second, and third quarters of each grant year;

• Modify the program operations survey and Performance Progress Report (PPR) that grant recipients will submit after the fourth quarter of each grant year.

The OMB-approved PPR has been modified with one version for all programs and other revisions to reflect the updated performance measures.

ACF provides grant recipients with a web-based performance measures system called nFORM (Information, Family Outcomes, Reporting, and Management) to improve the efficiency and quality of data collection and reporting and support grant recipient and federal monitoring and evaluation.

ACF proposes to continue the OMB-approved requirement for grant recipients to document their continuous quality improvement (CQI) planning and implementation using a CQI plan template that is completed outside of the nFORM system. This template had been included in this information collection in the past, but for the 2025 cohort, this requirement will be covered under a separate information collection request.

Respondents: Respondents include HM and RF grant recipient staff and program applicants and participants.

Annual Burden Estimates: The burden estimates have been updated to remove the applicant characteristics survey and CQI planning instruments and reduce required reporting, as described above, and reflect the number of grant recipients and participants that ACF expects for the 2025 cohort. Additionally, the service delivery data burden estimate has been updated to reflect the median program length rather than the average that had been previously used, which better aligns with how grant recipients will report program length.

Instrument | Respondent | Number of respondents (total over request period) | Number of responses per respondent (total over request period) | Avg. burden per response (in hours) | Total burden (in hours) | Annual burden (in hours)
1: Program Application and Enrollment | Program staff (application form) | 327 | 413 | 0.10 | 13,505 | 4,502
| Program staff (entrance survey data entry) | 218 | 124 | 0.10 | 2,703 | 901
| Program applicants (entrance survey) | 135,000 | 1 | 0.34 | 45,900 | 15,300
2: Program Operations | Program staff | 109 | 3 | 0.32 | 105 | 35
3: Service Delivery Data | Program staff | 1,635 | 78 | 0.36 | 45,911 | 15,304
4: Exit Surveys | Participants | 87,561 | 1 | 0.28 | 24,516 | 8,172
| Program staff (exit survey data entry) | 218 | 80 | 0.10 | 1,744 | 581
5: Annual PPR | Program staff | 109 | 3 | 3 | 981 | 327

Estimated Total Annual Burden Hours: 45,122.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 403. [42 U.S.C. 603].

Mary C. Jones,
ACF/OPRE Certifying Officer.

[FR Doc. 2026-01734 Filed 1-28-26; 8:45 am]

BILLING CODE 4184-73-P